DEPARTMENT OF HEALTH AND HUMAN SERVICES

Centers for Disease Control and Prevention

Disease, Disability, and Injury Prevention and Control Special Emphasis Panel: Applied Research in Antimicrobial Resistance: Studies of Susceptibility Testing on Gram-negative Multidrug Resistant Organisms, Funding Opportunity Announcement (FOA) CI07-003

In accordance with section 10(a)(2) of the Federal Advisory Committee Act (Pub. L. 92-463), the Centers for Disease Control and Prevention (CDC) announces a meeting of the aforementioned Special Emphasis Panel.

Time and Date: 12 p.m.-4 p.m., June 28, 2007 (Closed).

Place: Teleconference.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grant applications in response to FOA CI07-003, “Applied Research in Antimicrobial Resistance: Studies of Susceptibility Testing on Gram-negative Multidrug Resistant Organisms.”

Contact Person for More Information: Trudy Messmer, PhD, Scientific Review Administrator, 1600 Clifton Road, Mailstop C-19, Atlanta, GA 30333, telephone (404) 639-2176.

The Director, Management Analysis and Services Office, has been delegated the authority to sign Federal Register notices pertaining to announcements of meetings and other committee management activities, for both CDC and the Agency for Toxic Substances and Disease Registry.

Dated: May 24, 2007.
Elaine L. Baker,
Acting Director, Management Analysis and Services Office, Centers for Disease Control and Prevention.

[FR Doc. E7-10422 Filed 5-30-07; 8:45 am]

BILLING CODE 4163-18-P